DEPARTMENT OF JUSTICE

Notice of Lodging of Proposed Consent Decree Under the Clean Water Act

On March 1, 2021, the Department of Justice lodged a proposed Consent Decree with the United States District Court for the Western District of Michigan in the lawsuit entitled United States v. Walnutdale Family Farms, LLC and Kevin Lettinga, Civil Action No. 1:20-cv-397.

On May 7, 2020, the United States filed a complaint against Walnutdale Family Farms, LLC and Kevin Lettinga (collectively, the “Defendants”) alleging violation of the Clean Water Act (“CWA”) and the Defendants' National Pollutant Discharge Elimination System (“NPDES”) permits at its concentrated animal feeding operation (“CAFO”) in Wayland, Michigan. The violations include discharges of manure and process wastewater, inadequate operation and maintenance of waste storage devices, and failure to land apply manure in accordance with the Facility's NPDES permits. On May 11, 2020, Sierra Club moved to intervene in this action, alleging similar violations.

The proposed Consent Decree resolves the United States' and Sierra Club's claims by requiring the Defendants to assess and correct any problems with their waste storage structures, imposing heightened standards for land application of CAFO waste, and enhancing reporting requirements. The Consent Decree also requires Defendant to pay a civil penalty of $33,750 to the United States based on their limited ability to pay a civil penalty. In addition to the civil penalty, Defendants will pay $11,250 to the Sierra Club for a portion of its attorneys' fees. Finally, the proposed Consent Decree resolves violations of a prior Consent Decree and supersedes the prior Consent Decree.

The publication of this notice opens a period for public comment on the Consent Decree. Comments should be addressed to the Assistant Attorney General, Environment and Natural Resources Division, and should refer to the United States District Court for the Western District of Michigan in the lawsuit entitled United States v. Walnutdale Family Farms, LLC and Kevin Lettinga, D.J. Ref. No. 90-5-1-1-07515/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $19.75 (25 cents per page reproduction cost) payable to the United States Treasury.

Patricia McKenna,
Assistant Section Chief, Environmental Enforcement Section, Environment and Natural Resources Division.

[FR Doc. 2021-04897 Filed 3-9-21; 8:45 am]

BILLING CODE 4410-15-P